DEPARTMENT OF EDUCATION

[Docket ID ED-2024-FSA-0084]

Privacy Act of 1974; Matching Program

AGENCY: Federal Student Aid, U.S. Department of Education.

ACTION: Notice of a new matching program.

SUMMARY: Pursuant to the Privacy Act of 1974, as amended by the Computer Matching and Privacy Protection Act of 1988 and the Computer Matching and Privacy Protection Amendments of 1990 (Privacy Act) and Office of Management and Budget (OMB) guidance, notice is hereby given of the re-establishment of a matching program between the U.S. Department of Education (Department), as the recipient agency, and the U.S. Department of Homeland Security, U.S. Citizenship and Immigration Services (DHS-USCIS), as the source agency, to verify the immigration status of noncitizen applicants for, or recipients of, financial assistance under title IV of the Higher Education Act of 1965, as amended (HEA).

DATES: Submit your comments on the proposed re-establishment of the matching program on or before September 30, 2024.

The matching program will go into effect on the later of the following three dates: (1) October 21, 2024; (2) at the expiration of the 60-day period following the Department's transmittal of a report concerning the matching program to OMB and to the appropriate Congressional Committees, along with a copy of the Computer Matching Agreement, unless OMB waives any of this 60-day review period for compelling reasons, in which case, 60 days minus the number of days waived by OMB from the date of the Department's transmittal of the report of the matching program; or (3) at the expiration of the 30-day public comment period following the Department's publication of notice of this matching program in the Federal Register, assuming that the Department receives no public comments or receives public comments but makes no changes to the Matching Notice as a result of the public comments, or 30 days from the date on which the Department publishes a Revised Matching Notice in the Federal Register, assuming that the Department receives public comments and revises the Matching Notice as a result of public comments. If the latest date occurs on a non-business day, then that date will be counted for purposes of this paragraph as occurring on the next business day.

The matching program will continue for 18 months after the effective date of the matching program and may be extended for an additional 12 months thereafter, if the respective Data Integrity Boards (DIBs) of the Department and DHS-USCIS determine that the conditions specified in 5 U.S.C. 552a(o)(2)(D) have been met.

ADDRESSES: Comments must be submitted via the Federal eRulemaking Portal at regulations.gov. However, if you require an accommodation or cannot otherwise submit your comments via regulations.gov, please contact the program contact person listed under FOR FURTHER INFORMATION CONTACT. The Department will not accept comments submitted by fax or by email, or comments submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ”.

Privacy Note: The Department's policy is to make all comments received from members of the public available for public viewing in their entirety on the Federal eRulemaking Portal at www.regulations.gov. Therefore, commenters should be careful to include in their comments only information that they wish to make publicly available.

FOR FURTHER INFORMATION CONTACT: Patrick Fox, Senior Advisor, U.S. Department of Education, Federal Student Aid, 61 Forsyth Street SW, Atlanta, GA 30303. Telephone: (202) 718-6885. Email: Patrick.Fox@ed.gov.

If you are deaf, hard of hearing, or have a speech disability and wish to access telecommunications relay services, please dial 7-1-1.

SUPPLEMENTARY INFORMATION: In accordance with the Privacy Act; OMB “Final Guidance Interpreting the Provisions of Public Law 100-503, the Computer Matching and Privacy Protection Act of 1988,” published in the Federal Register on June 19, 1989 (54 FR 25818); and OMB Circular No. A-108, notice is hereby given of the re-establishment of the matching program between the Department and DHS-USCIS, to verify the immigration status of noncitizen applicants for, or recipients of, financial assistance under title IV, HEA, in order to determine such individuals' eligibility for title IV, HEA Federal student aid.

Participating Agencies

The Department and DHS-USCIS.

Authority for Conducting the Matching Program

The Department seeks access to the information accessed by SAVE through the DHS-USCIS Verification Information System (VIS) for the purpose of verifying the immigration status of applicants for assistance, as authorized by section 484(g) of the HEA, 20 U.S.C. 1091(g), consistent with the requirements of section 484(a)(5) of the HEA, 20 U.S.C. 1091(a)(5). The Department is authorized to participate in the matching program, which is the subject of this CMA, under the authority of section 484(g)(3) of the HEA, 20 U.S.C. 1091(g)(3), and 20 U.S.C. 3475. DHS-USCIS is authorized to participate in this matching program under section 103 of the Immigration and Nationality Act, Public Law 82-414, as amended, 8 U.S.C. 1103, Section 121(c)(1), Part C, of the Immigration Reform and the Control Act of 1986, Public Law 99-603, 42 U.S.C. 1320b-7 note, and section 642 of the Illegal Immigration Reform and Immigrant Responsibility Act of 1996, Public Law 104-208, as amended, 8 U.S.C. 1373(c).

Purpose(s)

The purpose of this matching program is to permit the Department to confirm the immigration status of noncitizen applicants for, or recipients of, financial assistance under title IV of the HEA, as authorized by section 484(g) of the HEA (20 U.S.C. 1091(g)). The title IV, HEA programs that are covered by the matching program include: the Federal Pell Grant Program, the Teacher Education Assistance for College and Higher Education (TEACH) Grant Program, the Iraq and Afghanistan Service Grant Program, the Federal Perkins Loan Program, the Federal Work-Study Program, the Federal Supplemental Educational Opportunity Grant Program, and the William D. Ford Federal Direct Loan Program.

Categories of Individuals

The individuals included in this matching program are applicants for, or recipients of, title IV, HEA program assistance who provide an Alien Registration Number (ARN) (also referred to as A-number or USCIS number) when completing the Free Application for Federal Student Aid (FAFSA) and have indicated that they are an “eligible noncitizen” to determine their eligibility for title IV, HEA program assistance.

Categories of Records

The Department will disclose to DHS-USCIS the ARN, first and last name, and date of birth of each applicant for, or recipient of, financial assistance under title IV of the HEA who indicates that they are an “eligible noncitizen” and have provided their ARN in their application for financial assistance under title IV of the HEA. DHS-USCIS will disclose to the Department the eligible noncitizen applicant's first and last name, date of birth, A-number (or ARN or USCIS number), Verification Case Number, and Eligibility Statement Codes, if any.

System(s) of Records

The Department will disclose records to DHS-USCIS from its systems of records identified as “Aid Awareness and Application Processing” (AAAP) (18-11-21), which was last published in the Federal Register on May 30, 2024 (89 FR 46870). In addition, the Department will maintain the information it receives from DHS-USCIS in the “Common Origination and Disbursement (COD) System” (18-11-02), which was last published in the Federal Register on June 28, 2023 (88 FR 41942).

DHS-USCIS will disclose records back to the Department from its systems of records identified as the “Department of Homeland Security (DHS)/U.S. Citizenship and Immigration Services (USCIS)-0004 Systematic Alien Verification for Entitlements Program System of Records”, which was last published in the Federal Register on May 27, 2020 (85 FR 31798).

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Denise Carter,
Acting Chief Operating Officer, Federal Student Aid.

[FR Doc. 2024-19432 Filed 8-28-24; 8:45 am]

BILLING CODE 4000-01-P